DEPARTMENT OF THE TREASURY

Office of Thrift Supervision

First Federal Bank of California, FSB Santa Monica, CA; Notice of Appointment of Receiver

Notice is hereby given that, pursuant to the authority contained in section 5(d)(2) of the Home Owners' Loan Act, the Office of Thrift Supervision (OTS) has duly appointed the Federal Deposit Insurance Corporation as sole Receiver for First Federal Bank of California, FSB, Santa Monica, California (OTS No. 01792), on December 18, 2009.

Dated: December 23, 2009.
By the Office of Thrift Supervision.
Sandra E. Evans,
Federal Register Liaison.

[FR Doc. E9-30951 Filed 12-30-09; 8:45 am]

BILLING CODE 6720-01-M